DEPARTMENT OF ENERGY

Federal Energy Regulatory Commission

[Docket No. RP97-375-012]

Wyoming Interstate Company, Ltd; Notice of Compliance Filing

June 29, 2000.

Take notice that on June 23, 2000, Wyoming Interstate Company, Ltd. (WIC) tendered for filing as part if its FERC Gas Tariff, Second Revised Volume No. 2, the tariff sheets listed on Appendix A to the filing, to become effective on the dates indicated on each sheet.

WIC asserts that the purpose of this filing is to comply with the Commission's order issued October 13, 1999 in Docket No. RP97-375.

Specifically, this filing documents transportation rates for the periods December 1, 1997 through December 31, 1999 and incorporates changes made pursuant to the Commission's order to WIC's interest tracker, Columbia Exit Fee and negotiated rate and interruptible service revenue crediting provisions.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary,

[FR Doc. 00-16996 Filed 7-5-00; 8:45 am]

BILLING CODE 6717-01-M